DEPARTMENT OF ENERGY

Federal Energy Regulatory Commission

[Project No. 2333-091-Maine]

Rumford Falls Hydro, LLC; Notice of Environmental Site Review

On September 27, 2019, Rumford Falls Hydro, LLC filed a Notice of Intent (NOI) and Pre-Application Document to re-license its 44.5-megawatt Rumford Falls Hydroelectric Project No. 2333. The Federal Energy Regulatory Commission (Commission) will conduct an environmental site review for the project on October 24, 2019. The project is located on the Androscoggin River, in Oxford County, Maine.

The environmental site review is being held to provide all stakeholders, interested in the project's future relicensing proceedings, an opportunity to view the project's facilities and surrounding areas.

Under the Commission's Integrated Licensing Process, the Commission conducts its National Environmental Policy Act (NEPA) scoping meeting within 90 days of the filing of the licensee's NOI. An environmental site review is typically held in conjunction with that scoping meeting. However, access to some project facilities may be limited by winter weather during December of 2019 when scoping for this project is currently anticipated. For this reason, the Commission will conduct the environmental site review in October before the onset of winter; additional site reviews will not be conducted in conjunction with NEPA scoping meetings for the project in December of 2019. Therefore, we are waiving 5.8(b)(viii) of the Commission's regulations requiring an environmental site review within 30 days of issuance of a notice of commencement of proceeding to facilitate the early environmental site review. The Commission encourages all interested parties to participate in the October environmental site review to facilitate productive scoping meetings later this year. Details of the project specific environmental site review follow.

Date and Time: October 24, 2019 at 9:00 a.m.

Location: Rumford Falls Hydroelectric Project, 299 Prospect Avenue (Route 2), Rumford, Maine 04276.

Directions and Logistics

Please notify Mr. Randy Dorman of Great Lakes Hydro America at (207) 755- 5605 or at randy.dorman@brookfieldrenewable.com on or before October 21, 2019, if you plan to attend the environmental site review.

If you need further logistical information or directions, please contact the Mr. Randy Dorman with the information above. All other questions regarding the environmental site review or the Commission's Integrated Licensing Process may be directed to Ryan Hansen of the Commission's staff at (202) 502-8074 or via email at: ryan.hansen@ferc.gov.

Dated: October 1, 2019.
Kimberly D. Bose,
Secretary.

[FR Doc. 2019-21791 Filed 10-4-19; 8:45 am]

BILLING CODE 6717-01-P